DEPARTMENT OF JUSTICE

Federal Bureau of Investigation

[OMB Number 1110-0046]

Agency Information Collection Activities: Existing collection, Comments Requested

ACTION: 30-day notice of information collection for renewal.

Three Fingerprint Cards: Arrest and Institution; Applicant; Personal Identification.

The Department of Justice (DOJ), Federal Bureau of Investigation (FBI), Criminal Justice Information Services (CJIS) Division will be submitting the following information collection renewal to the Office of Management and Budget (OMB) for review in accordance with established review procedures of the Paperwork Reduction Act of 1995. The information collection is published to obtain comments from the public and affected agencies. The information collection was previously published in the Federal Register Volume on December 15, 2009, Volume 74, Number 239, Pages 66375-66376, allowing for a 60-day comment period.

The purpose of this notice is to allow for an additional 30 days for public comment until April 1, 2010. This process is conducted in accordance with 5 CFR 1320.10.

Written comments and/or suggestions regarding the items contained in this notice, especially the estimated public burden and associated response time, should be directed to the Office of Management and Budget, Office of Information and Regulatory Affairs, Attention Department of Justice Desk Officer, Washington, DC, 20503. Additionally, comments may be submitted to OMB via facsimile to (202) 395-5806. Written comments and suggestions from the public and affected agencies concerning the proposed collection of information are encouraged. Your comments should address one or more of the following four points:

(1) Evaluate whether the proposed collection of information is necessary for the proper performance of the functions of the agency, including whether the information will have a practical utility;

(2) Evaluate the accuracy of the agency's estimate of the burden of the propose collection of information, including the validity of the methodology and assumptions used;

(3) Enhance the quality, utility, and clarity of the information to be collected, and;

(4) Minimize the burden of the collection of information on those who are to respond, including through the use of appropriate automated, electronic, mechanical, or other technological collection techniques of other forms of information technology, e.g., permitting electronic submission of responses.

Overview of This Information Collection

(1) Type of information collection: Existing collection in use with an OMB control number of 1110-0046.

(2) The title of the form/collection: Three Fingerprint Cards: Arrest and Institution; Applicant; Personal Identification.

(3) The agency form number, if any, and the applicable component of the

department sponsoring the collection: Forms FD-249 (Arrest and Institution), FD-258 (Applicant), and FD-353 (Personal Identification); CJIS Division, FBI, DOJ.

(4) Affected public who will be asked or required to respond, as well as a brief abstract: Primary: City, county, state, federal and tribal law enforcement agencies; civil entities requesting security clearance and background checks. This collection is needed to collect information on individuals requesting background checks, security clearance, or those individuals who have been arrested for or accused of criminal activities. Acceptable data is stored as part of the Integrated Automated Fingerprint Identification System (IAFIS) of the FBI.

(5) An estimate of the total number of respondents and the amount of time estimated for an average respondent to respond: There are approximately 88,979 agencies as respondents at 10 minutes per fingerprint card completed.

(6) An estimate of the total public burden (in hours) associated with this collection: There are approximately 110,969 annual burden hours associated with this collection.

If additional information is required contact: Lynn Bryant, Department Clearance Officer, Justice Management Division, United States Department of Justice, Patrick Henry Building, Suite 1600, 601 D Street, NW., Washington, DC 20530.

Dated: February 23, 2010.
Lynn Bryant,
Department Clearance Officer, PRA, United States Department of Justice.

[FR Doc. 2010-4044 Filed 3-1-10; 8:45 am]

BILLING CODE 4410-02-P